DEPARTMENT OF DEFENSE

Office of the Secretary

[Docket ID DoD-2014-OS-0077]

Proposed Collection; Comment Request

AGENCY: Office of the Secretary of Defense, DoD.

ACTION: Notice.

SUMMARY: In compliance with Section 3506(c)(2)(A) of the Paperwork Reduction Act of 1995, the Defense Security Service (DSS) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 28, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Security Service, ATTN: Ms. Helmut Hawkins, Industrial Security Program Policy, Clearance Oversight Office, 1340 Braddock Place, Alexandria, VA 22314.

SUPPLEMENTARY INFORMATION: Title; Associated Form; and OMB Number: Industry Cost Collection Report Survey; OMB Control Number 0704-0458.

Needs and Uses: Executive Order 12829, “National Industrial Security Program” requires the Department of Defense to account each year for the costs associated with implementation of the National Industrial Security Program and report those costs to the Director of the Information Security Oversight Office (ISOO). In furtherance of this requirement, and pursuant with 32 CFR, Subpart F, section 2001.61(b); Classified National Security Information; Final Rule, the Secretary of Defense, acting as executive agent for NISP, is obligated to collect cost estimates for classification-related activities of contractors, licensees, certificate holders, and grantees and report them to ISOO annually. The cost collection methodology employed since 1996 was validated with the ISOO in December 2007. Participation in the survey is strictly voluntary. Input is integrated into total cost figure for the President and is never associated with a specific facility.

Affected Public: A statistical sample of active and cleared businesses, or other profit and non-profit organizations under Department of Defense Security Cognizance, approved for storage of classified materials.

Annual Burden Hours: 125 hours.

Number of Respondents: 749.

Responses per Respondent: 1.

Total Annual Responses: 749.

Average Burden per Response: 10 minutes.

Frequency: Annually.

Collection of this data is required to comply with the reporting requirements of Executive Order 12829, “National Industrial Security Program.” This collection of information requests the assistance of the Facility Security Officer to provide estimates of annual security labor cost in burdened, current year dollars and the estimated percentage of security labor dollars to the total security costs for the facility. Security labor is defined as personnel whose positions exist to support operations and staff in the implementation of government security requirements for the protection of classified information. Guards who are required as supplemental controls are included in security labor. This data will be incorporated into a report produced to ISOO for the estimated cost of securing classified information within industry. The survey will be distributed electronically via a Web-based commercial survey tool.

Dated: May 22, 2014.
Aaron Siegel,
Alternate OSD Federal Register Liaison Officer, Department of Defense.

[FR Doc. 2014-12286 Filed 5-27-14; 8:45 am]

BILLING CODE 5001-06-P